DEPARTMENT OF HOMELAND SECURITY

Office of the Inspector General; Submission for Review; Notice of Emergency Clearance for Survey of Federal Flight Deck Officers Program

AGENCY: Office of the Inspector General, DHS.

ACTION: Notice of emergency clearance request.

SUMMARY: The Department of Homeland Security (DHS), has submitted a request for emergency processing of a new public information collection to the Office of Management and Budget (OMB) for review and clearance under the Paperwork Reduction Act of 1995 (Pub. L. 104-13, 44 U.S.C. 35). This notice announces that the Information Collection Request (ICR) abstracted below has been forwarded to OMB for review and comment. The ICR describes the nature of the information collection and its expected burden.

DATES: Send your comments by July 1, 2005. A comment to OMB is most effective if OMB receives it within 30-days of publication.

ADDRESSES: Written comments and/or suggestions contained in this notice should be directed to the Office of Management and Budget, Attn: Desk Officer for Homeland Security, Office of Management and Budget Room 10235, Washington, DC 20503; telephone 202-395-7316 (this is not a toll free number).

FOR FURTHER INFORMATION CONTACT: A copy of this ICR, with applicable supporting documentation, may be obtained by calling Charlene Myrthil, Paperwork Reduction Act Contact, Office of the Chief Information Officer, Department of Homeland Security, Washington, DC 20528; telephone 202-401-5957 (this is not a toll free number).

SUPPLEMENTARY INFORMATION:

Analysis

Agency: Department of Homeland Security, Office of the Inspector General.

Title: Survey of Federal Flight Deck Officers.

OMB Control Number: 1690-NEW.

Frequency: One time collection.

Affected Public: Federal Flight Deck Officers.

Estimated Number of Respondents: 192 respondents.

Estimated Time Per Respondent: 45 minutes per response.

Total Burden Hours: 200.

Total Burden Cost: (Capital/Startup): None.

Total Burden Cost: (Operating/Maintaining): None.

Description: The Department of Homeland Security, Office of the Inspector General (DHS-OIG) is currently auditing the Transportation Security Administration's (TSA) Federal Flight Deck Officer (FFDO) program. The FFDO program is authorized under the Arming Pilots Against Terrorism Act (which is Title XIV of the Homeland Security Act of 2002, Public Law 107-296, dated November 25, 2002). Under the FFDO program, TSA selects, trains deputizes, equips, and supervises volunteer airline pilots and other aircraft flight crewmembers for the purpose of defending the flight decks of passenger and cargo aircraft. The audit began in March 2004 and is being conducted in accordance with the Department of Homeland Security's Fiscal Year 2004 Annual Performance Plan. This information will help us determine the extent to which FFDOs are having problems accomplishing their mission and to identify solutions they believe might improve the program.

Dated: May 26, 2005.
Ronald T. Hewitt,
Acting, Chief Information Officer.

[FR Doc. 05-10932 Filed 5-27-05; 9:58 am]

BILLING CODE 4410-10-P